DEPARTMENT OF DEFENSE

Office of the Secretary

[Docket ID: DoD-2024-OS-0113]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by February 10, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: National Language Service Corps; DD Form 2932, DD Form 2933, DD Form 2934; OMB Control Number 0704-0449.

Type of Request: Extension.

Number of Respondents: 1,700.

Responses per Respondent: 1.

Annual Responses: 1,700.

Average Burden per Response: 12 minutes.

Annual Burden Hours: 340.

Needs and Uses: The National Language Service Corps (NLSC) recruits from the public and enrolls individuals who would like to volunteer their language skills. The NLSC identifies U.S. citizens who can provide high levels of proficiency in foreign languages and cultural expertise critical to national security for short-term temporary assignments when other resources are not available. The NLSC will fill gaps between requirements of DoD or other departments or agencies of the United States and available language skills where Government employees are required or desired. The NLSC will reach out to U.S. citizens (age 18 or over) who can read, listen, speak, and write in English and read, listen, write, and speak at least one other specified language, generally at or above skill level 3 as described by the proficiency guidelines of the Federal Interagency Language Roundtable (ILR). The DoD and the Intelligence Community agencies use these guidelines as the basis for language skill requirements identification, position descriptions, readiness indices and language bonus pay systems. Therefore, the ILR proficiency guidelines represent a common metric used by USG agencies as a basis for policy, planning and human capital decisions in operational, mission critical areas where language is required.

Affected Public: Individuals or households.

Frequency: On occasion.

Respondent's Obligation: Voluntary.

DoD Clearance Officer: Mr. Reginald Lucas.

Dated: January 3, 2025.
Aaron T. Siegel,
Alternate OSD Federal Register Liaison Officer, Department of Defense.

[FR Doc. 2025-00287 Filed 1-8-25; 8:45 am]

BILLING CODE 6001-FR-P